DEPARTMENT OF AGRICULTURE

Forest Service

Eastern Arizona Counties Resource Advisory; Meeting

AGENCY: Forest Service, USDA.

ACTION: Notice of meeting.

SUMMARY: The Eastern Arizona Counties Resource Advisory Committee will meet in Springerville, Arizona. The committee is authorized under the Secure Rural Schools and Community Self-Determination Act (Pub. L. 110-343) (the Act) and operates in compliance with the Federal Advisory Committee Act. The purpose of the committee is to improve collaborative relationships and to provide advice and recommendations to the Forest Service concerning projects and funding consistent with the Title II of the Act. The meeting is open to the public. The purpose of the meeting is to review and recommend funding of project proposals.

DATES: The meeting will be held August 8, 2011 beginning at 10:30 a.m. until 5:00 p.m., and continue on August 9, 2011 beginning at 8:30 a.m. until approximately 4:00 p.m. This meeting was originally scheduled to be held on June 8 and June 9, 2011, but had to be postponed because of mandatory evacuations and health and safety concerns associated with the Wallow Wildfire.

ADDRESSES: The meeting will be held at the Apache-Sitgreaves National Forests Supervisor's Office conference room, located at 30 South Chiricahua Drive. Written comments may be submitted as described under Supplementary Information.

All comments, including names and addresses when provided, are placed in the record and are available for public inspection and copying. The public may inspect comments received at the Apache-Sitgreaves National Forests Supervisor's Office, located at 30 South Chiricahua Drive. Please call ahead to 928-333-6280 to facilitate entry into the building to view comments.

FOR FURTHER INFORMATION CONTACT: Julia Faith Rivera, RAC Program Manager, Eastern Arizona Counties Resource Advisory Committee, Apache-Sitgreaves National Forests, telephone 928-333-6280, or jfrivera@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed For Further Information.

SUPPLEMENTARY INFORMATION: The following business will be conducted: The Resource Advisory Committee will review and recommend funding of project proposals. Anyone who would like to bring related matters to the attention of the committee may file written statements with the committee staff before or after the meeting. The agenda will include time for people to make oral statements of three minutes or less. Individuals wishing to make an oral statement should request in writing by August 1, 2011 to be scheduled on the agenda. Written comments and requests for time for oral comments must be sent to Apache-Sitgreaves National Forests, Attention RAC Program Manager, P.O. Box 640, Springerville, Arizona, or by e-mail to jfrivera@fs.fed.us, or via facsimile to 928-333-5966.

Dated: July 8, 2011.
James E. Zornes,
Deputy Forest Supervisor.

[FR Doc. 2011-17852 Filed 7-14-11; 8:45 am]

BILLING CODE 3410-11-P